DEPARTMENT OF VETERANS AFFAIRS

Professional Certification and Licensure Advisory Committee Notice of Meeting

The Department of Veterans Affairs (VA) gives notice under Public Law 92-463 (Federal Advisory Committee Act) that the Professional Certification and Licensure Advisory Committee has scheduled a meeting on Wednesday, June 11, 2003, at the Department of Veterans Affairs, Veterans Benefits Administration Education Conference Room 601V, 1800 G Street, NW., Washington, DC, from 8:30 a.m. to 4 p.m. The meeting is open to the public.

The purpose of the Committee is to advise the Secretary of Veterans Affairs on the requirements of organizations or entities offering licensing and certification tests to individuals for which payment for such tests may be made under Chapters 30, 32, 34, or 35 of Title 38, United States Code.

The meeting will begin with opening remarks and an overview by Ms. Sandra Winborne, Committee Chair. During the morning session, the Committee will receive a presentation on licensure and certification usage, and a progress report on improvements to the Licensing and Certification Approval System (LACAS). The afternoon session will include discussion on any old or new business.

Interested person may file statements with the Committee, in written form, before the meeting or within 10 days after the meeting to Mr. Giles Larrabee, Designated Federal Officer, Department of Veterans Affairs, Veterans Benefits Administration (225B), 810 Vermont Avenue, NW., Washington, DC. Oral statements from the public will be heard at 1 p.m. Any member of the public wishing to attend the meeting should contact Mr. Giles Larrabee or Mr. Michael Yunker at (202) 273-7187.

Dated: April 6, 2003.
By Direction of the Secretary:
E. Philip Riggin,
Committee Management Officer.

[FR Doc. 03-11846 Filed 5-12-03; 8:45 am]

BILLING CODE 8320-01-M